DEPARTMENT OF TRANSPORTATION

Federal Railroad Administration

[Docket Number FRA-2025-0059]

Notice of Petition for Waiver of Compliance

AGENCY: Federal Railroad Administration (FRA), Department of Transportation (DOT).

ACTION: Notice.

SUMMARY: This document provides the public notice that the Association of American Railroads (AAR) petitioned FRA for relief from certain regulations concerning track inspections.

DATES: FRA must receive comments on the petition by June 9, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Yujiang Zhang, Staff Director, FRA Track & Structures Division, telephone: 202-493-6460, email: yujiang.zhang@dot.gov.

SUPPLEMENTARY INFORMATION: Under part 211 of title 49 Code of Federal Regulations (CFR), this document provides the public notice that by letter received April 24, 2025, AAR, on behalf of its members, petitioned FRA for a waiver of compliance from certain provisions of the Federal railroad safety regulations contained at 49 CFR part 213 (Track Safety Standards). FRA assigned the petition Docket Number FRA-2025-0059.

AAR seeks relief from § 213.233(b) and (c), Visual track inspections, which specifies the method and frequency in which railroads must conduct visual track inspections. AAR requests that its members instead be permitted to use a combination of track geometry measurement system (TGMS) and visual track inspection methods, which AAR states “will result in earlier detection and remediation of track defects, reduce visual inspections that are a potential source of injury, and improve operational efficiency.” Further, AAR believes that the relief would allow railroads to build on their existing successful TGMS programs and provide FRA additional data for use in possible future regulations. In support of its request, AAR also cites that automated track inspection technologies enable earlier detection of track defects and preventative maintenance practices, rather than reactive operations.

FRA notes that other non-AAR member railroads, including New Jersey Transit (NJT) (Docket Number FRA-2003-15196), the Southeastern Pennsylvania Transportation Authority (SEPTA) (Docket Number FRA-1999-5102), and the Long Island Rail Road (LIRR) (Docket Number RST-74-1),¹ have previously received conditional waivers from certain visual track inspection requirements through use of TGMS.² FRA is providing notice that concurrently with consideration of AAR's request, FRA may consider the utility of aligning these previous grants of relief with any grant of relief that may result in this docket.

¹ 41 FR 15360 (Apr. 12, 1976).

² The relief issued to both NJT and SEPTA has expired and LIRR's relief remains in effect.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by June 9, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-08199 Filed 5-8-25; 8:45 am]

BILLING CODE 4910-06-P